DEPARTMENT OF COMMERCE

National Oceanic and Atmospheric Administration

RIN 0648-XG146

South Atlantic Fishery Management Council; Public Meetings

AGENCY: National Marine Fisheries Service (NMFS), National Oceanic and Atmospheric Administration (NOAA), Commerce.

ACTION: Notice of public meetings.

SUMMARY: The South Atlantic Fishery Management Council (Council) will hold a joint meeting of its Golden Crab Advisory Panel and Deepwater Shrimp Advisory Panel in Daytona Beach, FL.

DATES: The joint meeting of the advisory panels will be held April 25, 2018, from 1 p.m. until 5 p.m. and April 26, 2018, from 9 a.m. until 12 p.m.

ADDRESSES: Meeting address: The meetings will be held at the Daytona Beach Resort, 2700 North Atlantic Avenue, Daytona Beach, FL 32118; Phone: Reservation: (800) 654-6216 or (386) 672-3770; Fax: (386) 944-7247.

Council address: South Atlantic Fishery Management Council, 4055 Faber Place Drive, Suite 201, N Charleston, SC 29405.

FOR FURTHER INFORMATION CONTACT: Kim Iverson, Public Information Officer, SAFMC; phone: (843) 571-4366 or toll free: (866) SAFMC-10; fax: (843) 769-4520; email: kim.iverson@safmc.net.

SUPPLEMENTARY INFORMATION: Agenda items for the joint AP meeting include the following: An update on amendments recently submitted for Secretarial review and currently under development by the Council; an overview of Joint Coral Amendment 10, Golden Crab Amendment 10, and Shrimp Amendment 11 addressing allowable fishing areas, Vessel Monitoring Systems (VMS) for the golden crab fishery, and transit provisions for the shrimp trawl fishery; a discussion of the royal red shrimp fishery and management options; an update on deep sea coral research; and regulations recommended for removal. Advisory panel members will provide recommendations as appropriate.

Special Accommodations

These meetings are physically accessible to people with disabilities. Requests for auxiliary aids should be directed to the Council office (see ADDRESSES) 3 days prior to the public hearings.

Note: The times and sequence specified in this agenda are subject to change.

Authority: 16 U.S.C. 1801 et seq.

Dated: April 3, 2018.
Tracey L. Thompson,
Acting Deputy Director, Office of Sustainable Fisheries, National Marine Fisheries Service.

[FR Doc. 2018-07041 Filed 4-5-18; 8:45 am]

BILLING CODE 3510-22-P